DEPARTMENT OF LABOR

Employment and Training Administration

[TA-W-71,233]

Advance Accessory Systems, Shelbyville, MI; Notice of Termination of Certification

Pursuant to Section 221 of the Trade Act of 1974, as amended, a certification was issued on December 10, 2009 in response to a worker petition filed on behalf of workers at Advance Accessory Systems, Shelbyville, Michigan.

The petitioning group of workers is covered by an active certification (TA-W-70,522A), which expires on July 23, 2011. Therefore, to avoid duplication in certification issued on December 10, 2009, TA-W-71,233 has been terminated.

Signed at Washington, DC, this 24th day of February 2010.
Elliott S. Kushner,
Certifying Officer, Division of Trade Adjustment Assistance.

[FR Doc. 2010-4573 Filed 3-4-10; 8:45 am]

BILLING CODE 4510-FN-P